DEPARTMENT OF THE INTERIOR

Bureau of Land Management

[62½% to CO-956-1420-BJ-0000-241A; 12½% to CO-956-9820-BJ-CO03-241A; 12½% to CO-956-1420-BJ-CAPD-241A; 12½% to CO-956-1910-BJ-4667-241A]

Colorado: Filing of Plats of Survey

June 27, 2002.

The plats of survey of the following described land will be officially filed in the Colorado State Office, Bureau of Land Management, Lakewood, Colorado, effective 10 a.m., June 27, 2002. All inquiries should be sent to the Colorado State Office, Bureau of Land Management, 2850 Youngfield Street, Lakewood, Colorado 80215-7093.

The plat representing the dependent resurvey and survey of certain mineral claims in Protracted T. 42 N., R. 7 W., New Mexico Principal Meridian, Group 1339, Colorado, was accepted April 22, 2002.

The plat (in 11 sheets) representing Amended Protraction Diagram No. 18, which covers the protracted areas in Townships 49, 50, and 51 North, Ranges 17, 18, 19, and 20 West, New Mexico Principal Meridian, Colorado, was accepted April 30, 2002.

The plat representing the dependent resurveys and surveys in T. 6 S., R. 91 W., Sixth Principal Meridian, Group 1290, Colorado, was accepted May 1, 2002.

The plat representing the corrective dependent resurveys in T. 35 N., R. 1 W., New Mexico Principal Meridian, Group 1266, Colorado, was accepted June 6, 2002.

The plat representing the entire record of the dependent resurvey and survey of section 7, T. 1 N., R. 72 W., Sixth Principal Meridian, Group 875, Colorado, was accepted June 10, 2002.

These surveys were requested by the Bureau of Land Management for administrative and management purposes.

The plat representing the retracement and dependent resurvey in T. 32 N., R. 13 W., New Mexico Principal Meridian, Group 1286, Colorado, was accepted April 8, 2002.

This survey was requested by the Bureau of Indian Affairs for administrative and management purposes.

The plat representing the dependent resurveys and surveys in T. 41 N., R. 9 W., New Mexico Principal, Group 1330, Colorado, was accepted May 23, 2002.

The plat representing the entire record of the survey between Protracted Blocks 44 and 45, in Protracted T. 42 N., R. 7 W., New Mexico, Group 1297, Colorado, was accepted June 27, 2002.

These surveys were requested by the U.S. Forest Service for administrative and management purposes.

Darryl A. Wilson,
Chief Cadastral Surveyor for Colorado.

[FR Doc. 02-17787 Filed 7-15-02; 8:45 am]

BILLING CODE 4310-JB-P